GENERAL SERVICES ADMINISTRATION

Notice of Intent to Prepare an Environmental Impact Statement for the Calexico West Port of Entry Expansion/Renovation, Calexico, California

AGENCY: Public Buildings Service, GSA

ACTION: Notice of Intent to Prepare an Environmental Impact Statement (EIS) and Public Scoping Meeting

SUMMARY: The General Services Administration (GSA) announces its intent to prepare an Environmental Impact Statement (EIS) for the expansion/renovation of the Calexico West Port of Entry (POE), located in Calexico, California. The purpose of the expansion/renovation is to reduce traffic congestion in Calexico and Mexicali city centers caused by vehicles crossing the border, to improve border security; and to provide safe, secure, and efficient operational areas for the public and Federal employees. This facility serves both vehicular and pedestrian traffic into and out of the Mexican city of Mexicali. The need for this expansion/renovation derives from the substantial increase in its use by international travelers. The existing POE is not equipped to process this increase within an acceptable level of service consistent with the Federal Inspection Service's minimum standards. Problems at the current facility are mostly related to inadequate space for inspection operations, equipment, and personnel. The facility also requires seismic retrofitting.

The EIS will address potential environmental impacts of the alternatives for the proposed project related to geology and soils, water resources, land use, biological resources, cultural resources, visual resources, infrastructure, traffic, air quality, noise, human health and safety, socioeconomics, and environmental justice. The existing contamination of the New River and traffic congestion have been identified as potential environmental impacts. Information regarding other potential environmental impacts will be gathered during the public scoping process.

DATES: The views and comments of the public are necessary in determining the scope and content of the environmental analysis in connection with the proposed project. A public scoping meeting for the proposed project will be held on Wednesday, March 8, 2006 from 3 to 6 p.m. at the Calexico City Hall, 608 Heber Avenue in Calexico, California. Interested parties may attend to present questions and concerns that they believe should be addressed in the EIS. Comments and questions can also be submitted to the Point of Contact (see the ADDRESS section below). Due to time limits mandated by Federal law, responses to scoping are requested no later than 45 days after publication of this notice. It is anticipated that the Draft EIS will be available for public review and comment in January of 2007.

ADDRESSES: Submit comments and questions to Mr. Morris Angell, Regional Environmental Quality Advisor, 450 Golden Gate Avenue, 3rd Floor East, San Francisco, California, 94102, 415-522-3473, morris.angell@gsa.gov.

FOR FURTHER INFORMATION CONTACT: If you require additional information regarding the public scoping meeting or the proposed project, or require special assistance to attend the meeting, please contact Morris Angell, GSA Regional Environmental Quality Advisor, (see the ADDRESS section above).

SUPPLEMENTARY INFORMATION: GSA is proposing two alternative actions: 1) construct a new vehicle and pedestrian inspection facility on the existing site and federally owned vacant land immediately to the west of the current facility, and 2) a “no action” alternative. Under the “no action” alternative, the existing facilities and their operation will remain unchanged.

Dated: February 10, 2006.
Peter G. Stamison,
Regional Administrator, Public Buildings Service, Pacific Rim Region.

Dated: February 10, 2006.
Jeffrey Neely,
Assistant Regional Administrator, Public Buildings Service, Pacific Rim Region.

[FR Doc. E6-2694 Filed 2-24-06; 8:45 am]

BILLING CODE 6820-YF-S